DEPARTMENT OF THE TREASURY

Customs Service

[T.D. 00-54]

Cancellation of Customs Broker Licenses

AGENCY: U.S. Customs Service, Department of the Treasury.

ACTION: Brokers' Licenses Cancellations.

I, as Assistant Commissioner of Customs, Office of Field Operations, pursuant to section 641(f) Tariff Act of 1930, as amended (19 U.S.C. 1641(f)) and section 111.51(a) of the Customs Regulations (19 111.51(a)), hereby cancel the following Customs brokers licenses due to the deaths of the license holders.

Name | Port | License No.
Zoe E. Stittsworth | Nogales | 11816
Russ Hamblin | Nogales | 15406
Gilbert E. Partida | Nogales | 03550
William F. Joffroy | Nogales | 05864
Arthur Trust, Sr. | Laredo | 05652
Martin Strauss | New York | 02701
John H. Todd | New York | 03922
Donna Carapezza | New York | 14124
Douglas A. LaMonte | New York | 06892
Howard H. Maslow | New York | 06453
Albert G. Grasher | Seattle | 02709
Richard M. Short | San Francisco | 02216
Rachel T. Chun | San Francisco | 03573
Kirby Bentsen | Houston | 05321
Scott Brenner | Detroit | 16487

Dated: August 7, 2000.
Bonni G. Tischler,
Assistant Commissioner, Office of Field Operations.

[FR Doc. 00-20895 Filed 8-16-00; 8:45 am]

BILLING CODE 4820-02-P